DEPARTMENT OF ENERGY

Federal Energy Regulatory Commission

Notice of Filings

May 20, 2005.

Take notice that the Commission received the following electric rate filings.

Docket Numbers: ER05-6-023; EL04-135-025; EL02-111-043; EL03-212-039.

Applicants: Midwest Independent Transmission System Operator, Inc.

Description: Midwest Independent Transmission System Operator, Inc et al submits joint revisions to the Joint Operating Agreement with PJM Interconnection, LLC under ER05-6 et al.

Filed Date: 05/17/2005.

Accession Number: 20050519-0228.

Comment Date: 5 p.m. eastern time on Tuesday, June 7, 2005.

Docket Numbers: ER05-651-001.

Applicants: Southwest Power Pool, Inc.

Description: Southwest Power Pool Inc submits revised version of the interconnection agreement under ER05-651.

Filed Date: 05/17/2005.

Accession Number: 20050519-0229.

Comment Date: 5 p.m. eastern time on Tuesday, June 7, 2005.

Docket Numbers: ER05-977-000.

Applicants: Union Power Partners L.P.

Description: Union Power Partners, LP submits a Rate Schedule which specifies its rates for providing cost-based reactive support and voltage control from Generation Sources Service etc under ER05-977.

Filed Date: 05/17/2005.

Accession Number: 20050518-0166.

Comment Date: 5 p.m. eastern time on Tuesday, June 7, 2005.

Docket Numbers: ER05-978-000.

Applicants: Virginia Electric Power Company.

Description: Virginia Electric & Power Co submits the Batesville Balancing Authority Area Services Agreement with J Aron & Co under ER05-978.

Filed Date: 05/17/2005.

Accession Number: 20050518-0162.

Comment Date: 5 p.m. eastern time on Tuesday, June 7, 2005.

Docket Numbers: ER05-979-000.

Applicants: Access Energy Cooperative.

Description: Access Energy Coop submits its informational 2005 rate redetermination filing as required under its Contract for Wheeling of Electric Power with Northeast Missouri Electric Power Coop under ER05-979.

Filed Date: 05/17/2005.

Accession Number: 20050519-0272.

Comment Date: 5 p.m. eastern time on Tuesday, June 7, 2005.

Docket Numbers: ER01-1403-003; ER01-2968-004; ER01-845-003.

Applicants: FirstEnergy Operating Companies.

Description: FirstEnergy Service Co submits modifications to the market based-rate power sales tariff etc under ER01-1403 et al.

Filed Date: 05/16/2005.

Accession Number: 20050518-0164.

Comment Date: 5 p.m. eastern time on Monday, June 6, 2005.

Docket Numbers: ER03-1079-004; ER02-47-004; ER95-216-005; ER03-725-004; ER02-309-004; ER02-1016-002; ER99-2322-004; ER01-905-004; ER00-1851-004; EL05-83-000.

Applicants: Aquila, Inc.

Description: Aquila, Inc, Aquila Long Term, Inc et al submits a compliance filing, pursuant to FERC's 4/14/05 Order under ER03-1079 et al.

Filed Date: 05/13/2005.

Accession Number: 20050518-0107.

Comment Date: 5 p.m. eastern time on Friday, June 3, 2005.

Docket Numbers: ER05-667-001.

Applicants: Midwest Independent Transmission System Operator, Inc.

Description: Dakota Wind Harvest, Inc and FPL Energy, LLC submit responses to the April 28, 2005 Staff data request relating to matters concerning the Large Generator Interconnection Agreement, etc. under ER05-667.

Filed Date: 05/13/2005.

Accession Number: 20050518-0108.

Comment Date: 5 p.m. eastern time on Friday, June 3, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding (ER05- -000 docket numbers), interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling line to log on and submit the intervention or protests.

Persons unable to file electronically should submit an original and 14 copies of the intervention or protest to the Federal Energy Regulatory Commission, 888 First Street, NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For Assistance with any FERC Online service, please e-mail FERCOnlineSupport@ferc.gov or call (866) 208-3676 (toll free). For TTY, call (202) 502-8659.

Linda Mitry,
Deputy Secretary.

[FR Doc. E5-2670 Filed 5-25-05; 8:45 am]

BILLING CODE 6717-01-P